DEPARTMENT OF LABOR

Employment and Training Administration

[TA-W-56,660]

GE Security Including Leased Workers From Express and Spherion Gladwater, TX; Notice of Termination of Investigation

Pursuant to Section 221 of the Trade Act of 1974, as amended, an investigation was initiated on March 2, 2005 in response to a petition filed by a company official on behalf of workers at GE Security, Gladewater, Texas.

The petitioner has requested that the petition be withdrawn. Consequently, the investigation has been terminated.

Signed at Washington, DC, this 21st day of March, 2005.
Richard Church,
Certifying Officer, Division of Trade Adjustment Assistance.

[FR Doc. E5-1440 Filed 3-31-05; 8:45 am]

BILLING CODE 4510-30-P